DEPARTMENT OF HOMELAND SECURITY

[Docket No. DHS-2011-0041]

Agency Information Collection Activities: Submission for Review; Information Collection Request for the Department of Homeland Security (DHS), Science and Technology, External S&T Collaboration Site (E-STCS)

AGENCY: Science and Technology Directorate, DHS.

ACTION: 60-day notice and request for comment.

SUMMARY: The Department of Homeland Security (DHS), Science & Technology (S&T) Directorate invites the general public to comment on data collection forms for the External S&T Collaboration Site (E-STCS) program. E-STCS is responsible for providing a collaborative environment for practitioners from first responders, academia, organizations, law enforcement, and the private sector. This clearinghouse will enable its users to share information, best practices and lessons learned within a secure collaborative environment. Registration information will be collected only when needed for users who require further access beyond the E-STCS landing page. In order for a user to access this clearinghouse, he/she must complete a Registration Form to establish a user account. Initially, this will be accomplished by the sponsor contacting the user for their information. As the site matures, the information will be collected via an online Web form. The information collected is used by the DHS S&T E-STCS program to determine the authenticity and suitability of the practitioner requesting access. Once approved, users will utilize the collaborative environment to exchange information, network with other users, as well as post blogs and comments.

The DHS invites interested persons to comment on the following form and instructions (hereinafter “Forms Package”) for the S&T E-STCS: (1) Request an E-STCS Account (DHS Form 10074). Interested persons may receive a copy of the Forms Package by contacting the DHS S&T PRA Coordinator. This notice and request for comments is required by the Paperwork Reduction Act of 1995 (Pub. L. 104-13, 44 U.S.C. chapter 35).

DATES: Comments are encouraged and will be accepted until August 12, 2011.

ADDRESSES: Interested persons are invited to submit comments, identified by docket number DHS-2011-0041, by one of the following methods:

• Federal eRulemaking Portal: http://www.regulations.gov. Please follow the instructions for submitting comments.

• E-mail: Daniel.Purcell@dhs.gov. Please include docket number DHS-2011-0041 in the subject line of the message.

• Fax: (202) 254-6171. (Not a toll-free number).

• Mail: Science and Technology Directorate, ATTN: Chief Information Office—Daniel Purcell, 245 Murray Drive, Mail Stop 0202, Washington, DC 20528.

FOR FURTHER INFORMATION CONTACT: DHS S&T PRA Coordinator Daniel Purcell (202) 254-5664 (Not a toll free number).

SUPPLEMENTARY INFORMATION: The information will be collected via the DHS S&T E-STCS secure Web site at https://eshare.st.dhs.gov. The E-STCS Web site will only employ secure Web-based technology (i.e., electronic registration form) to collect information from users to both reduce the burden and increase the efficiency of this collection.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: New Information Collection.

(2) Title of the Form/Collection: Science and Technology, External S&T Collaboration Site (E-STCS) program.

(3) Agency Form Number, if any, and the applicable component of the Department of Homeland Security sponsoring the collection: Department of Homeland Security, Science & Technology Directorate—1) Request an E-STCS Account (DHS Form 10074).

(4) Affected public who will be asked or required to respond, as well as a brief abstract: Individuals, consisting of Federal, state and local law enforcement, private sector and academia practitioners. The information collected will be leveraged to determine the authenticity and suitability of the practitioner requesting access. Once approved, users will utilize the collaborative environment to exchange information, network with other users, as well as post blogs and comments.

(5) An estimate of the total number of respondents and the amount of time estimated for an average respondent to respond:

a. Estimate of the total number of respondents: 1000.

b. An estimate of the time for an average respondent to respond: .083 burden hours.

c. An estimate of the total public burden (in hours) associated with the collection: 83 burden hours.

Dated: June 3, 2011.
Tara O'Toole,
Under Secretary for Science and Technology.

[FR Doc. 2011-14539 Filed 6-10-11; 8:45 am]

BILLING CODE 9110-9F-P